ENVIRONMENTAL PROTECTION AGENCY

[EPA-HQ-OLEM-2018-0317; FRL-10627-01-OMS]

Agency Information Collection Activities; Submission to the Office of Management and Budget for Review and Approval; Comment Request; Criteria for Classification of Solid Waste Disposal Facilities and Practices (Renewal)

AGENCY: Environmental Protection Agency (EPA).

ACTION: Notice.

SUMMARY: The Environmental Protection Agency (EPA) has submitted an information collection request (ICR), Criteria for Classification of Solid Waste Disposal Facilities and Practices, Recordkeeping and Reporting Requirements (EPA ICR Number 1745.10, OMB Control Number 2050-0154) to the Office of Management and Budget (OMB) for review and approval in accordance with the Paperwork Reduction Act. This is a proposed extension of the ICR, which is currently approved through February 28, 2023. Public comments were previously requested, via the Federal Register, on July 5, 2022 during a 60-day comment period. This notice allows for an additional 30 days for public comments.

DATES: Comments may be submitted on or before March 1, 2023.

ADDRESSES: Submit your comments, referencing Docket ID No. EPA-HQ-OLEM-2018-0317, to EPA online using www.regulations.gov (our preferred method), or by mail to: RCRA Docket (2822T), U.S. Environmental Protection Agency, 1200 Pennsylvania Avenue NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Richard Huggins, Environmental Protection Agency, 1200 Pennsylvania Ave. NW, Washington, DC 20460; telephone number: 202-566-0543; email address: huggins.richard@epa.gov.

SUPPLEMENTARY INFORMATION: This is a proposed extension of the ICR, which is currently approved through February 28, 2023. An agency may not conduct or sponsor and a person is not required to respond to a collection of information unless it displays a currently valid OMB control number.

Public comments were previously requested via the Federal Register (87 FR 39830) on July 5, 2022 during a 60-day comment period. This notice allows for an additional 30 days for public comments. Supporting documents, which explain in detail the information that the EPA will be collecting, are available in the public docket for this ICR. The docket can be viewed online at www.regulations.gov. Materials can also be viewed at the Reading Room located at the EPA Docket Center, WJC West Building, Room 3334, 1301 Constitution Avenue NW, Washington, DC 20004. The Docket Center's hours of operations are 8:30 a.m.-4:30 p.m., Monday-Friday (except Federal Holidays). The telephone number for the Docket Center is 202-566-1744.

Abstract: In order to effectively implement and enforce final changes to 40 CFR part 257—subpart B on a State level, owners/operators of construction and demolition waste landfills that receive CESQG hazardous wastes will have to comply with the final reporting and recordkeeping requirements. This continuing ICR documents the recordkeeping and reporting burdens associated with the location and ground-water monitoring provisions contained in 40 CFR part 257—subpart B.

Form numbers: None.

Respondents/affected entities: Entities potentially affected by this action are the private sector, as well as State, Local, or Tribal Governments.

Respondent's obligation to respond: Mandatory under Section 4010© and 3001(d)(4) of the Resource Conservation and Recovery Act (RCRA) of 1976.

Estimated number of respondents: 152.

Frequency of response: On occasion.

Total estimated burden: 11,219 hours (per year). Burden is defined at 5 CFR 1320.03(b).

Total estimated cost: $1,951,843 per year, which includes $1,577,659 annualized capital or operation & maintenance costs.

Changes in the estimates: There is no change in the number of hours in the total estimated respondent burden compared with the ICR currently approved by OMB.

Courtney Kerwin,
Director, Regulatory Support Division.

[FR Doc. 2023-01784 Filed 1-27-23; 8:45 am]

BILLING CODE 6560-50-P